ENVIRONMENTAL PROTECTION AGENCY

[ER-FRL-9020-8]

Environmental Impact Statements; Notice of Availability

Responsible Agency: Office of Federal Activities, General Information (202) 564-7146 or http://www.epa.gov/compliance/nepa/.

Weekly receipt of Environmental Impact Statements

Filed 04/27/2015 Through 05/01/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150123, Draft EIS, NPS, ID, City of Rocks National Reserve Draft General Management Plan, Comment Period Ends: 06/22/2015 Contact: Wallace Keck 208-824-5911.

EIS No. 20150124, Final Supplement, FAA, UT, Cal Black Memorial Airport, Review Period Ends: 06/08/2015, Contact: Janell Barrilleaux 425-227-2611.

EIS No. 20150125, Final Supplement, NNSA, DOE, Surplus Plutonium Disposition, Review Period Ends: Once a Preferred Alternative is identified, DOE will announce its preference in a Federal Register notice. DOE would publish a record of decision no sooner than 30 days after its announcement of a Preferred Alternative. Contact: Sachiko McAlhany 877-344-0513.

Dated: May 5, 2015.
Cliff Rader,
Director, NEPA Compliance Division, Office of Federal Activities.

[FR Doc. 2015-11201 Filed 5-7-15; 8:45 am]

BILLING CODE 6560-50-P